DEPARTMENT OF ENERGY

Federal Energy Regulatory Commission

[Project No. 2203-007]

Alabama Power Company; Notice of Availability of Final Environmental Assessment

November 1, 2000.

In accordance with the National Environmental Policy Act of 1969 and the Federal Energy Regulatory Commission's (Commission) regulations, 18 CFR Part 380 (Order No. 486, 52 F.R. 47897), the Office of Energy Projects has reviewed the application for license amendment for the Holt Project, located on the Black Warrior River in Tuscaloosa County, Alabama and has prepared a Final Environmental Assessment (FEA) for the project.

Copies of the FEA are available for review at the Commission's Public Reference Room, located at 888 First Street, NE., Washington, DC 20426, or by calling (202) 208-1371. The FEA may be viewed on the web at http://www.ferc.fed.us/online/rims.htm (call (202) 208-2222 for assistance).

For further information, contact Steve Kartalia at (202) 219-2942.

David P. Boergers,
Secretary.

[FR Doc. 00-28469 Filed 11-6-00; 8:45 am]

BILLING CODE 6717-01-M